NUCLEAR REGULATORY COMMISSION

[Docket No. PROJ0734, PROJ0735, PROJ0736, POOM-32]

Notice of Availability of Draft Standard Review Plan for Activities Related to U.S. Department of Energy Waste Determinations, NUREG-1854

AGENCY: U.S. Nuclear Regulatory Commission.

ACTION: Notice of availability of draft Standard Review Plan for public comment.

SUMMARY: The U.S. Nuclear Regulatory Commission (NRC) is issuing a draft Standard Review Plan (SRP) for activities related to U.S. Department of Energy (DOE) waste determinations, for public comment. The draft SRP provides guidance to the NRC staff in evaluating non-high-level waste determinations developed by DOE for the Savannah River Site, Idaho National Laboratory, the Hanford site, and the West Valley Demonstration Project for certain wastes that are a result of the reprocessing of spent nuclear fuel. The draft SRP provides elements the NRC staff should review to determine whether there is reasonable assurance that the appropriate criteria can be met for determining that waste is incidental to reprocessing and can be managed as low-level waste. The draft SRP also provides information about the role of the NRC in the waste determination process and the NRC monitoring activities under the Ronald W. Reagan National Defense Authorization Act for Fiscal Year 2005 (NDAA). The draft SRP does not set forth regulatory requirements for NRC or for DOE, and compliance with the draft SRP is not required.

DATES: The public comment period on the draft SRP begins with publication of this notice and continues for 60 days. Written comments should be submitted as described in the ADDRESSES section of this notice. Comments submitted by mail should be postmarked by that date to ensure consideration. Comments received or postmarked after that date will be considered to the extent practical.

ADDRESSES: Members of the public are invited and encouraged to submit comments to the Chief, Rules and Directives Branch, Mail Stop T6-D59, U.S. Nuclear Regulatory Commission, Washington, DC 20555-0001. Please note Docket Nos. PROJ0734, PROJ0735, PROJ0736, and POOM-32 when submitting comments. Comments will also be accepted by e-mail at NRCREP@nrc.gov or by fax to (301) 415-5397, Attention: Anna Bradford.

FOR FURTHER INFORMATION CONTACT: Ms. Anna Hajduk Bradford, Senior Project Manager, Environmental and Performance Assessment Branch, Division of Waste Management and Environmental Protection, Office of Nuclear Material Safety and Safeguards, U.S. Nuclear Regulatory Commission, Rockville, MD 20852. Telephone: (301) 415-5228; fax number: (301) 415-5397; e-mail: AHB1@nrc.gov.

SUPPLEMENTARY INFORMATION:

I. Background

In October 2004, the NDAA was enacted. Section 3116 of the NDAA gave the NRC new responsibilities with respect to DOE waste management activities for certain “incidental” waste resulting from the reprocessing of spent nuclear fuel within the States of South Carolina and Idaho. These responsibilities include consultation with DOE on the determination of whether waste is high-level waste (HLW), as well as monitoring of DOE's disposal actions for these wastes. The concept behind incidental waste is that some material, resulting from the reprocessing of spent nuclear fuel, does not need to be disposed of as HLW in a geologic repository because the residual radioactive contamination, if properly isolated from the environment, is sufficiently low that it does not represent a hazard to public health and safety. Consequently, incidental waste is not considered to be HLW, but instead is low-level waste. DOE uses technical analyses that are documented in a waste determination to evaluate whether waste is incidental or HLW. A waste determination provides DOE's analysis as to whether the waste will meet the applicable incidental waste criteria.

Prior to passage of the NDAA, DOE would periodically request the NRC to provide technical advice for specific waste determinations. The staff reviewed DOE's waste determinations to assess whether they had sound technical assumptions, analyses, and conclusions with regard to meeting the applicable incidental waste criteria. Because the enactment of the NDAA is expected to increase the number of waste determinations submitted to the NRC for review, the NRC has decided to develop the draft SRP. The draft SRP provides guidance to the NRC staff on how to conduct a technical review of a waste determination, as well as how to conduct monitoring activities under the NDAA, and will help ensure consistency across different reviews and different reviewers. Because the technical aspects of the NRC's waste determination reviews are expected to be similar for all four sites, regardless of whether the site is covered by the NDAA, the draft SRP will addresses reviews for the Savannah River Site, Idaho National Laboratory, Hanford, and West Valley.

In November 2005, the NRC held a public scoping meeting in Rockville, MD, to obtain public input on the scope of the SRP. In addition, the NRC published a Federal Register notice (FRN) on November 2, 2005, announcing the scoping meeting and stating that written comments on the scope of the SRP would be accepted until November 25, 2005 (70 FR 66472). The transcript of the scoping meeting is publicly available in the NRC's Agencywide Document Access and Management System (ADAMS) under accession number ML053400050. Written comments were received on the proposed scope of the SRP from the Savannah River Site Citizens Advisory Board (ML053620166), the South Carolina Department of Health and Environmental Control (ML053630035), and the Washington State Department of Ecology (ML053630034) and are publicly available in ADAMS.

In December 2005, the NRC published a FRN issuing draft interim guidance for performing concentration averaging for waste determinations (70 FR 74846). The FRN was issued due to high stakeholder interest in obtaining the guidance as soon as practicable due to the ongoing development of waste determinations. The draft interim guidance was open for public comment until January 31, 2006. Comment letters were received from the State of Idaho Department of Environmental Quality (ML060370015), the State of Washington Department of Ecology (ML060370019), the State of Oregon Department of Energy (ML060370016), Washington Closure Hanford (ML060480401), the Natural Resources Defense Council (ML060370017), and members of the public (ML061030268) and are publicly available in ADAMS. These comments will be considered along with comments received on the draft SRP. As discussed in the December FRN, the concentration averaging guidance is included in this draft SRP and is again open for public comment. Only minor editorial changes have been made to the text of the guidance.

The final SRP will be issued after the NRC staff takes into consideration any public comments received, as appropriate.

II. Further Information

The draft SRP may be accessed on the Internet at http://www.nrc.gov/reading-rm/doc-collections/nuregs/staff/ by selecting “NUREG-1854.” It is also available electronically at the NRC's Electronic Reading Room at http://www.nrc.gov/reading-rm/adams.html. From this site, you can access the NRC's ADAMS, which provides text and image files of NRC's public documents. Recent documents related to reviews of NRC waste determinations can be found in ADAMS under Docket Numbers PROJ0734, PROJ0735, PROJ0736, and POOM-32. If you do not have access to ADAMS or if there are problems in accessing the documents located in ADAMS, contact the NRC Public Document Room Reference staff at 1-800-397-4209, 301-415-4737 or by e-mail to pdr@nrc.gov.

The draft SRP is also available for inspection at the Commission's Public Document Room, U.S. NRC's Headquarters Building, 11555 Rockville Pike (first floor), Rockville, Maryland. Upon written request and to the extent supplies are available, a single copy of the draft SRP can be obtained for a fee by writing to the Office of the Chief Information Officer, Reproduction and Distribution Services Section, U.S. Nuclear Regulatory Commission, Washington, DC 20555-0001; or by e-mail to DISTRIBUTION@nrc.gov; or by fax at (310) 415-2289.

Dated at Rockville, Maryland this 23rd day of May, 2006.
For the Nuclear Regulatory Commission.
Larry Camper,
Director, Division of Waste Management and Environmental Protection, Office of Nuclear Materials Safety and Safeguards.

[FR Doc. E6-8347 Filed 5-30-06; 8:45 am]

BILLING CODE 7590-01-P